DEPARTMENT OF JUSTICE

[OMB Number 1122-NEW]

Agency Information Collection Activities; Proposed eCollection eComments Requested; Approval of a New Collection

AGENCY: Office on Violence Against Women, Department of Justice.

ACTION: 60-Day notice.

SUMMARY: The Department of Justice, Office on Violence Against Women (OVW) will be submitting the following information collection request to the Office of Management and Budget (OMB) for review and approval in accordance with the Paperwork Reduction Act of 1995.

DATES: Comments are encouraged and will be accepted for 60 days until October 13, 2017.

FOR FURTHER INFORMATION CONTACT: Written comments and/or suggestion regarding the items contained in this notice, especially the estimated public burden and associated response time, should be directed to Cathy Poston, Office on Violence Against Women, at 202-514-5430 or Catherine.poston@usdoj.gov.

SUPPLEMENTARY INFORMATION: Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Approval of a new collection.

(2) Title of the Form/Collection: Semi-annual progress report for the Grants to Tribal Governments to Exercise Special Domestic Violence Criminal Jurisdiction Program (Tribal Jurisdiction Program).

(3) Agency form number, if any, and the applicable component of the Department of Justice sponsoring the collection: Form Number: 1122-XXXX. U.S. Department of Justice, Office on Violence Against Women.

(4) Affected public who will be asked or required to respond, as well as a brief abstract: The affected public includes the estimated 20 grantees under the Tribal Jurisdiction Program, a new grant program authorized in the Violence Against Women reauthorization Act of 2013. The Tribal Jurisdiction Program is designed to assist Indian tribes in exercising special domestic violence criminal jurisdiction (SDVCJ). Through this grant program, Indian tribes will receive support and technical assistance for planning, developing and implementing changes in their criminal justice systems necessary to exercise SDVCJ. The program encourages collaborations among tribal leadership, tribal courts, tribal prosecutors, tribal attorneys, tribal defenders, law enforcement, probation, service providers, and other partners to ensure that non-Indians who commit crimes of domestic violence, dating violence, and violations of protection orders are held accountable. The Tribal Jurisdiction Program encourages the coordinated involvement of the entire tribal criminal justice system and victim service providers to incorporate systemic change that ensures victim safety and offender accountability.

(5) An estimate of the total number of respondents and the amount of time estimated for an average respondent to respond/reply: It is estimated that it will take the 20 respondents (Tribal Jurisdiction Program grantees) approximately one hour to complete a semi-annual progress report. The semi-annual progress report is divided into sections that pertain to the different types of activities that grantees may engage in (i.e. victim services, training, prosecutions, law enforcement activities) and grantees will be expected to provide information only in connection with those activities supported by OVW funding.

(6) An estimate of the total public burden (in hours) associated with the collection: The total annual hour burden to complete the annual progress report is 40 hours.

If additional information is required contact: Melody Braswell, Deputy Clearance Officer, United States Department of Justice, Justice Management Division, Policy and Planning Staff, Two Constitution Square, 145 N Street NE., 3E, 405B, Washington, DC 20530.

Dated: August 9, 2017.
Melody Braswell,
Department Clearance Officer, PRA, U.S. Department of Justice.

[FR Doc. 2017-17078 Filed 8-11-17; 8:45 am]

BILLING CODE 4410-FX-P